ENVIRONMENTAL PROTECTION AGENCY

[FRL-9167-1; Docket ID No. EPA-HQ-ORD-2010-0395]

Draft EPA's Reanalysis of Key Issues Related to Dioxin Toxicity and Response to NAS Comments

AGENCY: Environmental Protection Agency (EPA).

ACTION: Extension of public comment period.

SUMMARY: On May 21, 2010, EPA released the draft report entitled, “EPA's Reanalysis of Key Issues Related to Dioxin Toxicity and Response to NAS Comments” (EPA/600/R-10/038A) for independent external review, and public review and comment (75 FR 28610). Written comments on the draft report were to be submitted to EPA by August 19, 2010 (a 90-day public comment period). Since release, the Agency has received several requests for additional time to submit comments. In response to these requests, the EPA is extending the public comment period another 30 days until September 20, 2010 (a 120-day public comment period).

This draft report responds to the key recommendations and comments included in the National Academy of Sciences (NAS) 2006 report. In addition, it includes new analyses on potential human effects that may result from exposure to 2,3,7,8-tetrachlorodibenzo-p-dioxin (TCDD). These analyses have not been in previous versions of draft reports related to EPA's dioxin reassessment activity. This draft report is now considered to be under EPA's Integrated Risk Information System (IRIS) program, and thus, the new IRIS process announced in May 2009 (http://www.epa.gov/iris/process/) is being followed. Per the May 2009 process, this draft report is beginning Step 4—independent external peer review and public review and comment. This draft dioxin report was prepared by the National Center for Environmental Assessment (NCEA) within the EPA Office of Research and Development (ORD).

The draft document, “EPA's Reanalysis of Key Issues Related to Dioxin Toxicity and Response to NAS Comments,” was also being provided to EPA's Science Advisory Board (SAB), a body established under the Federal Advisory Committee Act, for independent external peer review. The SAB will convene an expert panel composed of scientists knowledgeable about technical issues related to dioxins and risk assessment. The SAB is holding a public teleconference on June 24, 2010, and a public panel meeting on July 13-15, 2010. The SAB peer review meetings were announced by the SAB staff office in a separate May 24, 2010, Federal Register Notice (75 FR 28805). EPA intends to forward all public comments submitted before July 7, 2010, in response to this notice to the SAB peer review panel for their consideration. Members of the public who wish to ensure that their technical comments are provided to the SAB expert panel before each meeting should also e-mail their comments separately to Thomas Armitage, the SAB Designated Federal Officer at armitage.thomas@epa.gov, following the procedures in the Federal Register Notice announcing the SAB public meetings. When completing this draft dioxin report, EPA will consider any written public comments that EPA receives in accordance with the detailed instructions provided under SUPPLEMENTARY INFORMATION in Federal Register notice (75 FR 28610). The public comment period and SAB external peer review are independent processes that provide separate opportunities for all interested parties to comment on the draft report.

EPA is releasing this draft report solely for the purpose of pre-dissemination peer review under applicable information quality guidelines. This draft report has not been formally disseminated by EPA. It does not represent and should not be construed to represent any Agency policy or determination.

DATES: The public comment period began on May 21, 2010, and ends on September 20, 2010. Comments should be in writing and must be received by EPA by September 20, 2010.

Due to the timing of the SAB's peer review meeting, EPA can only guarantee that those comments received by July 7, 2010, in response to this Federal Register notice will be provided to the SAB panel prior to the SAB meeting. Comments received after July 7, 2010, will still be provided to the SAB panel and will also inform the Agency's revision of the draft report.

ADDRESSES: The external review draft titled, “EPA's Reanalysis of Key Issues Related to Dioxin Toxicity and Response to NAS Comments” (EPA/600/R-10/038A) is available primarily via the Internet on the NCEA home page under the Recent Additions and Publications menus at http://www.epa.gov/ncea. A limited number of paper copies are available from the Information Management Team (Address: Information Management Team, National Center for Environmental Assessment (Mail Code: 8601P), U.S. Environmental Protection Agency, 1200 Pennsylvania Avenue, NW., Washington, DC 20460; telephone: 703-347-8561; facsimile: 703-347-8691). If you request a paper copy, please provide your name, mailing address, and the assessment title.

Comments may be submitted electronically via http://www.regulations.gov, by e-mail, by mail, by facsimile, or by hand delivery/courier. Please follow the detailed instructions provided in the SUPPLEMENTARY INFORMATION section of Federal Register notice (75 FR 28610).

FOR FURTHER INFORMATION CONTACT: For information on the docket, regulations.gov or public comment period, please contact the Office of Environmental Information (OEI) Docket (Mail Code: 2822T), U.S. Environmental Protection Agency, 1200 Pennsylvania Ave., NW., Washington, DC 20460; telephone: 202-566-1752; facsimile: 202-566-1753; or e-mail: ORD.Docket@epa.gov.

For information on the draft report, please contact Linda C. Tuxen, National Center for Environmental Assessment (8601P), U.S. Environmental Protection Agency, 1200 Pennsylvania Avenue, NW., Washington, DC 20460; telephone: 703-347-8609; facsimile: 703-347-8699; or e-mail: tuxen.linda@epa.gov.

Dated: June 17, 2010.
Rebecca Clark,
Acting Director, National Center for Environmental Assessment.

[FR Doc. 2010-15217 Filed 6-22-10; 8:45 am]

BILLING CODE 6560-50-P